DEPARTMENT OF AGRICULTURE

Office of the Chief Financial Officer

Request for Approval of a New Information Collection

AGENCY: Office of the Chief Financial Officer; USDA.

ACTION: Notice and request for comments.

SUMMARY: In accordance with the Paperwork Reduction Act of 1995 (44 U.S.C. Chapter 35), this notice announces the Office of the Chief Financial Officer intention to request approval for a new information collection for a Supplier Credit Recovery Audit.

DATES: Comments on this notice must be received by July 20, 2012 to be assured of consideration.

FOR FURTHER INFORMATION CONTACT: Contact Dale Theurer, Office of the Chief Financial Officer, Fiscal Policy Division, U.S. Department of Agriculture, 1400 Independence Ave. SW., Washington, DC 20250 (202) 720-1167; Fax number (202) 690-1529.

SUPPLEMENTARY INFORMATION: Title: Suppler Credit Recovery Audit Letter.

OMB Number: 0505-XXXX.

Expiration Date of Approval: Three years from approval date.

Type of Request: New information collection.

Abstract: The Department of Agriculture (USDA) believes there are many program recipients and service providers who maybe carrying a credit balance in their financial records due to possible overpayments, credits for unused services, damaged goods, etc. USDA desires to send out letters to all vendors in an attempt to collect these payments. This letter is asking these vendors to review their records to verify no funds are due back the USDA for goods or services provided by these vendors.

Estimate of Burden: Public reporting burden for this collection of information is estimated to average 2 hours per response. A business will receive the request and develop a query to their automated accounting system which could take an average of 30 minutes or less to review the customer records to determine which accounts have a credit balance if any. The customer ledgers would potentially show the number of USDA customers. If the business has a manual accounting system then a manual review would be required of the customer ledgers. This could take 1-2 hours depending on the size of the company. These estimates are based on the average business and entity using computers to do accounting. The estimate is based on the number of purchase orders and contracts currently in USDA procurement systems.

Type of Respondents: Vendors, Contractors, Program Recipients, any Entity receiving funds from USDA.

Estimated Number of Respondents: 300,000.

Estimated Number of Responses: 300,000.

Estimated Number of Responses per Respondent: 1.

Estimated Total Annual Burden on Respondents: 600,000 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Dale Theurer, Office of the Chief Financial Officer, Debt and Credit Policy Division, U.S. Department of Agriculture, 1400 Independence Ave. SW., Washington, DC 20250. All comments received will be available for public inspection during regular business hours at the same address.

All responses to this notice will be summarized and included in the request for OMB approval. All comments will become a matter of public record.

Frederic Marks,
Interim Director, Fiscal Policy Division, Office of the Chief Financial Officer, Department of Agriculture.

[FR Doc. 2012-12154 Filed 5-18-12; 8:45 am]

BILLING CODE P